Proclamation 10206 of May 7, 2021

National Women's Health Week, 2021

By the President of the United States of America

A Proclamation

It's a simple proposition for me: women are entitled to the same rights and opportunities as men, including access to high-quality, affordable health care. National Women's Health Week is an opportunity to focus on the work we need to do as a Nation to ensure equal access to high-quality, affordable care for women, and to build a more prosperous, healthy future for all.

This starts by strengthening the Affordable Care Act, which ensures that women cannot be denied coverage for pre-existing conditions, such as pregnancy, or charged more for coverage simply because they are women. The Affordable Care Act also expanded coverage to millions of women who were previously uninsured, and made various preventive services available free of charge, including Pap smears and mammograms. In addition, it covers screening and counseling for domestic and intimate partner violence.

To cover more Americans, the Biden-Harris Administration began a special open enrollment period on healthcare.gov, so that women who are uninsured have the opportunity to sign up for coverage through August 15. And, we are committed to building on the successes of this law to make coverage more affordable. The American Rescue Plan, enacted earlier this year, will save women buying coverage on their own $50 per month on their health care premiums.

The theme of this year's National Women's Health Week is “Ending the Pandemic and Elevating Women's Health.” The quickest and most effective way to defeat this pandemic and restore public health is through vaccination.

My Administration is committed to advancing women's health and ensuring an equitable response to the COVID-19 pandemic. We have prioritized and increased access to the COVID-19 vaccine and expanded the criteria for eligibility to include all adults over the age of 16. We encourage women to talk to their doctors, nurses, nurse practitioners, or physician assistants about the COVID-19 vaccine.

And, it is important for women and girls to catch up on any missed vaccines or medical care from this past year. Delays in routine care—such as Pap smears, mammograms, bone density scans, stress tests, cholesterol screenings, blood pressure screenings, physical exams, general check-ups and other preventive health screenings—can cause many conditions to go undetected. As we mark National Women's Health Week, let us make sure that all women and girls, particularly those with underlying health conditions such as hypertension, diabetes, cardiovascular and respiratory conditions, and mental health needs, can prioritize their own health.

The COVID-19 pandemic has further revealed why the unique needs of women and girls must be centered in our health care system, and further brought to light the health disparities and systemic biases that women, particularly women of color, continue to face, including inequitable maternity care and access to reproductive health care.

My Administration aims to address persistent and unconscionable disparities in maternal health outcomes. Pregnancy-related mortality for Black and American Indian and Alaska Native women is two to three times higher than for white, Hispanic, and Asian American and Pacific Islander women. Ensuring that all women have equitable access to health care before, during, and after pregnancy is essential. I am committed to building a health care system that delivers equity and dignity to all women and girls. In addition, we must protect access to sexual and reproductive health care, including the broad range of family planning services.

As we strive to improve the health of our Nation, we must prioritize the health and well-being of our women and girls. During National Women's Health Week, we reaffirm our commitment to this important work.

NOW, THEREFORE, I, JOSEPH R. BIDEN JR., President of the United States of America, by virtue of the authority vested in me by the Constitution and the laws of the United States, do hereby proclaim May 9 through May 15, 2021, as National Women's Health Week. During this week, I encourage all Americans to dedicate themselves to the work of improving the health of women and girls and promoting health equity for all.

IN WITNESS WHEREOF, I have hereunto set my hand this seventh day of May, in the year of our Lord two thousand twenty-one, and of the Independence of the United States of America the two hundred and forty-fifth.

[FR Doc. 2021-10130

Filed 5-11-21; 8:45 am]

Billing code 3295-F1-P